DEPARTMENT OF TRANSPORTATION

Pipeline and Hazardous Materials Safety Administration

Notice of Delays in Processing of Special Permits Applications

AGENCY: Office of Hazardous Materials Safety, Pipeline and Hazardous Materials Safety Administration (PHMSA), DOT.

ACTION: List of Applications Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application

M—Modification request

R—Renewal Request

P—Party To Exemption Request

Issued in Washington, DC, on July 11, 2012.
Donald Burger,
Chief, General Approvals and Permits.

Applicant No. | Applicant | Reason for delay | Estimated date of completion
MODIFICATION TO SPECIAL PERMITS
14372-M | Kidde Aerospace and Defense, Wilson, NC | 3 | 10-31-2012
15258-M | Air Products and Chemicals, Inc., Tamaqua, PA | 3 | 07-31-2012
10964-M | Kidde Aerospace & Defense, Wilson, NC | 3 | 08-31-2012
NEW SPECIAL PERMIT APPLICATIONS
15080-N | Alaska Airlines, Seattle, WA | 4 | 10-31-2012
15334-N | Floating Pipeline Company, Incorporated, Halifax, Nova Scotia | 3 | 09-30-2012
15494-N | Johnson Controls, Battery Group, Inc., MIlwaukee, WI | 3 | 08-31-2012
15504-N | FIBA, Technologies, Inc., Millbury, MA | 3 | 10-31-2012
PARTY TO SPECIAL PERMITS APPLICATION
14372-P | L'Hotellier, France | 3 | 10-31-2012
13548-P | A&S Batteries Inc., Billings, MT | 4 | 11-30-2012
15537-P | Austin Powder Company, Cleveland, OH | 4 | 10-31-2012
13548-P | Interstate Battery System of The Redwoods, Eureka, CA | 4 | 08-31-2012
RENEWAL SPECIAL PERMITS APPLICATIONS
12283-R | Interstate Battery of Alaska, Ancorage, AK | 4 | 09-30-2012
14313-R | Airgas, Inc., Radnor, PA | 3 | 12-31-2012

[FR Doc. 2012-17355 Filed 7-17-12; 8:45 am]

BILLING CODE 4910-60-M